DEPARTMENT OF ENERGY

Federal Energy Regulatory Commission

[Docket No. CP00-398-000]

Reliant Energy Gas Transmission Company; Notice of Request Under Blanket Authorization

July 3, 2000.

Take notice that on June 29, 2000, Reliant Energy Gas Transmission Company (REGT), 111 Louisiana Street, Houston, Texas 77002-5231, filed a request with the Commission in Docket No. CP00-398-000, pursuant to Section 157.205, 157.211 and/or 157.216(b) of the Commission's Regulations under the Natural Gas Act (NGA) for authorization to abandon certain facilities in Arkansas authorized in blanket certificates issued in Docket Nos. CP82-384-000 and CP82-384-001, all as more fully set forth in the request on file with the Commission and open to public inspection. This filing may be viewed on the web at http://www.ferc.fed.us/online/rims.htm (call 202-208-2222 for assistance).

REGT proposes to abandon Line KM-50, in its entirety, in Union County, Arkansas. REGT proposes to sell and transfer this line at net book value to Reliant Energy Arkla, a distribution division of Reliant Energy Incorporated (Arkla). Arkla will operate this segment of line as part of its low pressure distribution system. Net book value of this 2-inch line is $6,418.

Any person or the Commission's staff may, within 45 days after the Commission has issued this notice, file pursuant to Rule 214 of the Commission's Procedural Rules (18 CFR 385.214) a motion to intervene or notice of intervention and pursuant to Section 157.205 of the Regulations under the NGA (18 CFR 157.205) a protest to the request. If no protest is filed within the allowed time, the proposed activity shall be deemed to be authorized effective the day after the time allowed for filing a protest. If a protest is filed and not withdrawn within 30 days after the time allowed for filing a protest, the instant request shall be treated as an application for authorization pursuant to Section 7 of the NGA.

David P. Boergers,
Secretary.

[FR Doc. 00-17324 Filed 7-7-00; 8:45 am]

BILLING CODE 6717-01-M